DEPARTMENT OF COMMERCE

Foreign-Trade Zones Board

[B-107-2013]

Foreign-Trade Zone (FTZ) 265—Conroe, Texas, Notification of Proposed Production Activity, Bauer Manufacturing Inc., (Pile Drivers, Boring Machinery, and Foundation Construction Equipment), Conroe, Texas

The City of Conroe, Texas, grantee of FTZ 265, submitted a notification of proposed production activity to the FTZ Board on behalf of Bauer Manufacturing Inc. (Bauer), located in Conroe, Texas. The notification conforming to the requirements of the regulations of the FTZ Board (15 CFR 400.22) was received on December 18, 2013.

Bauer already has authority to produce pile drivers and leads, boring machinery, foundation construction equipment, foundation casings, related parts and sub-assemblies, and tools and accessories for pile drivers and boring machinery within Site 1 of FTZ 265. The current request would add certain foreign-status components to the scope of authority. Pursuant to 15 CFR 400.14(b), FTZ activity would be limited to the specific foreign-status components and specific finished products described in the submitted notification (as described below) and subsequently authorized by the FTZ Board.

Production under FTZ procedures could exempt Bauer from customs duty payments on the foreign status components used in export production. On its domestic sales, Bauer would be able to choose the duty rates during customs entry procedures that apply to pile drivers and leads, boring machinery, foundation construction equipment, foundation casings, and tools and accessories for pile drivers and boring machinery (free, 2.9%, 5.0%) for the foreign status inputs noted below and in the existing scope of authority. Customs duties also could possibly be deferred or reduced on foreign status production equipment.

The components and materials sourced from abroad include: Zinc plated non-alloy steel; alloy steel bars; shapes of non-alloy semi-finished steel; and, keys for control panel doors (duty rate ranges from free to 4.5%).

Public comment is invited from interested parties. Submissions shall be addressed to the FTZ Board's Executive Secretary at the address below. The closing period for their receipt is February 10, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: December 23, 2013.
Andrew McGilvray,
Executive Secretary.

[FR Doc. 2013-31276 Filed 12-27-13; 8:45 am]

BILLING CODE 3510-DS-P